DEPARTMENT OF THE INTERIOR

Bureau of Land Management

[PO4820000251]

Agency Information Collection Activities; Submission to the Office of Management and Budget for Review and Approval; Bureau of Land Management Resource Advisory Council Application

AGENCY: Bureau of Land Management, Interior.

ACTION: Notice of information collection; request for comment.

SUMMARY: In accordance with the Paperwork Reduction Act of 1995 (PRA), the Bureau of Land Management (BLM) proposes to renew with revisions a currently approved information collection.

DATES: Interested persons are invited to submit comments on or before January 17, 2025.

ADDRESSES: Written comments and recommendations for the proposed information collection revision should be sent within 30 days of publication of this notice to www.reginfo.gov/public/do/PRAMain. Find this particular information collection by selecting “Currently under 30-day Review—Open for Public Comments” or by using the search function.

FOR FURTHER INFORMATION CONTACT: Carrie Richardson, BLM National Advisory Council Coordinator, by email at crichardson@blm.gov or by phone at (202) 501-2634. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the Paperwork Reduction Act of 1995 (PRA, 44 U.S.C. 3501 et seq., and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 11, 2024 (89 FR 49183).

As part of our continuing effort to reduce paperwork and respondent burdens, we are again soliciting comments from the public and other Federal agencies on the proposed ICR that is described below. We are especially interested in public comment addressing the following:

(1) Whether the collection of information is necessary for the proper performance of the functions of the agency, including whether the information will have practical utility;

(2) The accuracy of our estimate of the burden for this collection of information, including the validity of the methodology and assumptions used;

(3) Ways to enhance the quality, utility, and clarity of the information to be collected; and

(4) How the agency could minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The BLM collects the information on the Resource Advisory Council Application (Form No. 1120-19) to determine education, training, and experience related to possible service on advisory committees established under the authority of Section 309 of the Federal Land Policy and Management Act (43 U.S.C. 1739) and the Federal Advisory Committee Act, 5 U.S.C. App. 2. This information is necessary to ensure that each advisory council is structured to provide fair membership balance, both geographic and interest-specific, in terms of the functions to be performed and points of view to be represented, as prescribed by its charter. The BLM is requesting minor changes to Form 1120-19. The changes include removing some of the previously collected information that is not needed and, in response to user feedback, clarifying certain portions of the form. A complete description of the changes is provided in the ICR that has been submitted to OMB. This OMB control number is scheduled to expire on April 30, 2025. This request is for OMB to renew with revisions this OMB control number for an additional three (3) years.

Title of Collection: Bureau of Land Management Resource Advisory Council Application (43 CFR Subpart 1784).

OMB Control Number: 1004-0204.

Form Number: 1120-19.

Type of Review: Extension with revision of a currently approved collection.

Respondents/Affected Public: Persons who apply for positions on Resource Advisory Councils.

Total Estimated Number of Annual Respondents: 200.

Total Estimated Number of Annual Responses: 200.

Estimated Completion Time per Response: 4 hours.

Total Estimated Number of Annual Burden Hours: 800.

Respondent's Obligation: Required to obtain or retain a benefit.

Frequency of Collection: On occasion.

Total Estimated Annual Nonhour Burden Cost: None.

Reason for Change: Some of the previously collected information is not needed.

An agency may not conduct or sponsor and, notwithstanding any other provision of law, a person is not required to respond to a collection of information unless it displays a currently valid OMB control number.

The authority for this action is the Paperwork Reduction Act of 1995 (44 U.S.C. 3501 et seq.).

Darrin King,
Information Collection Clearance Officer.

[FR Doc. 2024-29983 Filed 12-17-24; 8:45 am]

BILLING CODE 4331-31-P